DEPARTMENT OF THE INTERIOR

Bureau of Land Management

[ES-930-07-1320-241A; ALES 51589]

Notice of Competitive Coal Lease Offering, Alabama

AGENCY: Bureau of Land Management, Interior.

ACTION: Notice of competitive coal lease sale.

SUMMARY: Notice is hereby given that certain coal resources in the Flat Creek tract described below in Fayette County, Alabama will be offered for competitive lease sale by sealed bid in accordance with the provisions of the Mineral Leasing Act of 1920, as amended (30 U.S.C. 181 et seq).

DATES: The lease sale will be held at 10 a.m., Thursday, September 30, 2004. Each bid must be clearly identified on the outside of the sealed envelope containing the bid. The bid should be sent by certified mail, return receipt or be hand delivered on or before 4:30 p.m., Wednesday, September 29, 2004, to the Bureau of Land Management at the address below.

ADDRESSES: The lease sale will be held at the Bureau of Land Management, Eastern States, 7450 Boston Boulevard, Springfield, Virginia 22153. Sealed bids must be submitted to the Cashier, BLM Eastern States Office, at the address above.

FOR FURTHER INFORMATION CONTACT: Steve Gobat, Deputy State Director, Division of Natural Resources at (703) 440-1727.

SUPPLEMENTARY INFORMATION: This coal lease sale is being held in response to a lease by application (LBA) filed by The Pittsburgh and Midway Coal Mining Company (P&M). The Federal coal tract being considered for sale is adjacent to P&M's North River Mine. The coal resources to be offered consist of all the reserves recoverable by underground methods in the following described lands near Berry, Alabama which consists of private surface with Federally-owned coal. The coal tract is described as:

T. 16 S., R. 10 W Fayette County, Alabama, Huntsville Meridian

Sec. 14: SWSW;

Sec. 15: S2SE, NESE, SESW;

Sec. 21: W2NE, NWSE, NESW, SENE, E2SE, SWSE, W2SW, NENE;

Sec. 22: E2SE, S2NW, W2SW, SESW, N2NE, SENE, SWNE, NESW, W2SE, N2NW;

Sec. 23: W2SW, SWSE, NENW, S2NW, NWNW;

Sec. 26: NWNW, S2NE, N2SE;

Sec. 27: S2NE, N2SE, N2NE, NENW, W2NW, SENW, S2NE;

Sec. 28: E2SW, SE, NWSW, E2NE;

Sec. 31: NESE, E2NW, NE;

Sec. 34: NW.

Containing 2,887.2 acres.

The tract is adjacent to both Federal and private coal resources which are both leased and unleased. All of the acreage offered has been determined to be suitable for mining. Numerous oil and gas wells have been drilled in the immediate area of the tract.

Total recoverable reserves are estimated to be 10.789 million tons. The Pratt Seam is a high volatile group C bituminous coal and averages (proximate analysis) 13,000 BTU/lb. with 2.8 percent moisture, 2.1 percent sulfur, 10.0 percent ash, 51.3 percent fixed carbon, and 36.1 percent volatile matter.

The Flat Creek Tract will be leased to the highest qualified bidder provided that the high bid equals or exceeds the Fair Market Value (FMV) for the tract as determined by the Authorized Officer. The U.S. Department of Interior has established a minimum bid of $100 per acre or fraction thereof for the tract. The minimum bid does not represent the amount for which the tract may actually be issued, since FMV will be determined in a separate post sale analysis. The bids should be sent by certified mail, return receipt requested, or be hand delivered. The Cashier will issue a receipt for each hand-delivered bid. Bids received after 4:30 p.m., Wednesday, September 29, 2004, will not be considered.

Any lease issued as a result of this offering will require an annual rental payment of $3 per acre and a royalty payable to the United States of 8 percent of the value of the coal mined by underground methods. The value of the coal shall be determined in accordance with 30 CFR part 206. Bidding instructions and bidder qualifications are included in the Detailed Statement for the tract offered. The terms and conditions of the proposed coal lease are available from the BLM Eastern States Office at the address above. Case file documents, ALES 51589, are available for inspection at the BLM Eastern States Office.

Dated: August 13, 2004.
Ruth Welch,
Acting State Director.

[FR Doc. 04-19910 Filed 8-31-04; 8:45 am]

BILLING CODE 4310-GJ-P